DEPARTMENT OF TRANSPORTATION

Research and Special Programs Administration

Office of Hazardous Materials Safety Notice of Applications for Modification of Exemption

AGENCY: Research and Special Programs Administration, DOT.

ACTION: List applications for modification of exemption.

SUMMARY: In accordance with the procedures governing the application for, and the processing of, exemptions from the Department of Transportation's Hazardous Material Regulations (49 CFR part 107, subpart B), notice is hereby given that the Office of Hazardous Materials Safety has received the application described herein. This notice is abbreviated to expedite docketing and public notice. Because the sections affected, modes of transportation, and the nature of application have been shown in earlier Federal Register publications, they are not repeated here. Request of modifications of exemptions (e.g., to provide for additional hazardous materials, packaging design changes, additional mode of transportation, etc.) are described in footnotes to the application number. Application numbers with the suffix “M” denote a modification request. These applications have been separated from the new application for exemption to facilitate processing.

DATES: Comments must be received on or before February 13, 2004.

ADDRESS COMMENTS TO: Record Center, Research and Special Programs Administration, U.S. Department of Transportation, Washington, DC 20590.

Comments should refer to the application number and be submitted in triplicate. If Confirmation of receipt of comments is desired, include a self-addressed stamped postcard showing the exemption number.

FOR FURTHER INFORMATION CONTACT: Copies of the applications are available for inspection in the Records Center, Nassif Building, 400 7th Street, SW., Washington, DC, or at http://dms.dot.gov.

This notice of receipt of applications for modification of exemption is published in accordance with Part 107 of the Federal hazardous materials transportation law (49 U.S.C. 5117(b); 49 CFR 1.53(b)).

Issued in Washington, DC, on January 23, 2004.
R. Ryan Posten,
Exemptions Program Officer, Office of Hazardous Materials Exemptions & Approvals.

Modification Exemptions
Application No. | Docket No. | Applicant | Nature of exemption thereof
7774-M |  | Pipe Recovery Systems, Inc., Houston, TX | To modify the exemption to authorize the maximum filling density be such that the liquid content must not completely fill the non-DOT specification cylinder at 54 degrees C.
8215-M |  | Olin Corporation, Brass and Winchester, Inc., East Alton, IL | To modify the exemption to authorize the addition of a Division 1.1D material and for Division 1.1A and 1.1D materials to be transported in a newly designed motor vehicle (trailer).
12674-M | RSPA-01-9373 | G & S Aviation, Donnelly, ID | To modify the exemption to authorize an increase of the maximum amount of Division 2.1 material from 60 pounds to 80 pounds net product aboard each passenger-carrying aircraft.
12782-M | RSPA-01-10318 | Air Liquide America L.P., Houston, TX | To modify the exemption to authorize the transportation of certain Division 2.2 and 2.3 materials in DOT Specification cylinders equipped with plastic valve protection caps.
13047-M | RSPA-02-12807 | U.S. Department of Defense, Fort Eustis, VA | To modify the exemption to authorize cargo vessel as an additional mode of transportation for transporting Division 2.3 materials in DOT Specification cylinders or multi-unit tank car tanks equipped with emergency A and B kits.
13335-M | RSPA-03-16578 | D & D Proves It Inc., Salina, KS | To reissue the exemption originally issued on an emergency basis for the transportation of liquefied petroleum gas residue vapors in non-DOT specification packaging.

[FR Doc. 04-1866 Filed 1-28-04; 8:45 am]

BILLING CODE 4909-60-M